DEPARTMENT OF COMMERCE

National Telecommunications and Information Administration

Renewal of the Digital Economy Board of Advisors Charter

AGENCY: National Telecommunications and Information Administration (NTIA), U.S. Department of Commerce.

ACTION: Notice of the renewal of the Digital Economy Board of Advisors Charter.

SUMMARY: On December 20, 2017, the U.S. Department of Commerce renewed the Charter for the Digital Economy Board of Advisors. It has been determined that the Committee is necessary and in the public interest.

FOR FURTHER INFORMATION CONTACT: Evelyn Remaley, Designated Federal Officer, National Telecommunications and Information Administration, 1401 Constitution Ave. NW, Washington, DC 20230; Telephone (202) 482-3821; Email: eremaley@ntia.doc.gov.

SUPPLEMENTARY INFORMATION: The Digital Economy Board of Advisors was established on December 22, 2015, as a federal advisory committee to provide advice and recommendations to the Secretary of Commerce, through the Assistant Secretary of Commerce for Communications and Information, on a broad range of issues concerning the digital economy and internet policy.

Dated: December 27, 2017.
Kathy D. Smith,
Chief Counsel, National Telecommunications and Information Administration.

[FR Doc. 2017-28294 Filed 12-29-17; 8:45 am]

BILLING CODE 3510-16-P